DEPARTMENT OF STATE

[Public Notice 4878]

Bureau of Nonproliferation; Imposition of Discretionary Measures Against Bulgarian Entities Beta JSC and KAS Engineering Consortium/BMG-M OOD for Transfer of Certain Military Equipment to a State Sponsor of Terrorism

AGENCY: Department of State.

ACTION: Notice.

SUMMARY: The United States Government has determined that the Bulgarian entities Beta JSC and KAS Engineering Consortium/BMG-M OOD transferred certain military equipment to a state sponsor of terrorism. Further notice is hereby given that it is the policy of the United States Government to deny all U.S. Government assistance to Beta JSC and KAS Engineering Consortium/BMG-M OOD for a period of one year, and that U.S. Government Procurement from these entities and new licenses for the import and export of defense articles and services insuring these entities will be banned for a period of one year and that U.S. government procurement from these entities and new licenses for the import and export of defense articles and services involving these entities will be banned for a period of one year.

Effective Date: The date of publication of this notice in the Federal Register.

FOR FURTHER INFORMATION CONTACT: On general issues: Ronald S. Parson, Office of Export Controls and Conventional Arms Nonproliferation Policy, Bureau of Nonproliferation, Department of State (202-647-0397).

SUPPLEMENTARY INFORMATION: On September 21, 2004 the United States Government determined that the entities Beta JSC and KAS Engineering Consortium/BMG-M OOD transferred certain military equipment to a state sponsor of terrorism. As a matter of policy, United States Government assistance will be denied to Beta JSC and KAS Engineering Consortium/BMG-M OOD for one year. The appropriate officials have been directed to implement additional measures against Beta JSC and KAS Engineering Consortium/BMG-M OOD, consisting of denial of U.S. Government procurement for one year and denial of new licenses and other approvals for exports and imports of defense articles and services for one year.

Dated: October 14, 2004.
Susan F. Burk,
Acting Assistant Secretary of State for Nonproliferation, Department of State.

[FR Doc. 04-23699 Filed 10-21-04; 8:45 am]

BILLING CODE 4710-27-P